OFFICE OF PERSONNEL MANAGEMENT

Senior Executive Service-Performance Review Board

AGENCY: Office of Personnel Management.

ACTION: Notice.

SUMMARY: Notice is hereby given of the appointment of members of the OPM Performance Review Board.

FOR FURTHER INFORMATION CONTACT: Kimberly Sylke, OPM Human Resources, Office of Personnel Management, 1900 E Street NW, Washington, DC 20415, (202) 606-1048.

SUPPLEMENTARY INFORMATION: Section 4314(c) (1) through (5) of title 5, U.S.C., requires each agency to establish, in accordance with regulations prescribed by the Office of Personnel Management, one or more SES performance review boards. The board reviews and evaluates the initial appraisal of a senior executive's performance by the supervisor and considers recommendations to the appointing authority regarding the performance of the senior executive.

The following have been designated as members of the Fiscal Year 2023 Performance Review Board of the U.S. Office of Personnel Management:

Robert Shriver, Deputy Director, Chair

Laurie Bodenheimer, Associate Director, Healthcare and Insurance

Carmen Garcia, Chief Human Capital Officer

Veronica Hinton, Associate Director, Workforce Policy and Innovation

Jane Lee, Senior Advisor to the Director

Lisa Loss, Director, Suitability Executive Agent Programs

Webb Lyons, General Counsel

Kathryn Malague, Chief Management Officer

Margaret Pearson, Associate Director, Retirement Services

Alethea Predeoux, Chief of Staff

Office of Personnel Management.
Kayyonne Marston,
Federal Register Liaison.

[FR Doc. 2023-23441 Filed 10-23-23; 8:45 am]

BILLING CODE 6325-45-P